DEPARTMENT OF TRANSPORTATION

Federal Aviation Administration

14 CFR Parts 21, 119, 121, 125, 135, 141, 142, and 145

[Docket No. FAA-2009-0671; Notice No. 09-06A]

RIN 2120-AJ15

Safety Management System; Withdrawal

AGENCY: Federal Aviation Administration (FAA), DOT

ACTION: Advance notice of proposed rulemaking (ANPRM); withdrawal.

SUMMARY: The FAA is withdrawing a previously published advance notice of proposed rulemaking (ANPRM) that solicited public comment on a potential rulemaking requiring certain 14 Code of Federal Regulations (CFR) part 21, 119, 121, 125 135, 141, 142, and 145 certificate holders, product manufacturers, applicants, and employers (“product/service providers”) to develop a Safety Management System (SMS). The FAA is withdrawing the ANPRM because we have issued a notice of proposed rulemaking that would require certificate holders operating under 14 CFR part 121 to develop and implement an SMS. The FAA may initiate additional rulemaking in the future to consider SMS for other product/service providers.

DATES: The advance notice of proposed rulemaking (ANPRM) published on July 23, 2009 (74 FR 36414) is withdrawn as of March 17, 2011.

FOR FURTHER INFORMATION CONTACT: For technical questions concerning this action, contact Scott Van Buren, Chief System Engineer for Aviation Safety, Office of Accident Investigation and Prevention (AVP), Federal Aviation Administration, 800 Independence Avenue, SW., Washington, DC 20591; telephone (202) 494-8417; facsimile: (202) 267-3992; e-mail: scott.vanburen@faa.gov.

SUPPLEMENTARY INFORMATION:

Background

On July 23, 2009, the FAA published an advance notice of proposed rulemaking (ANPRM) (Notice No. 09-06, 74 FR 36414). The ANPRM solicited public comment on the appropriate scope and applicability of a potential rulemaking that would require air carriers, aircraft design and manufacturing organizations, and maintenance repair stations to develop an SMS that would provide the organization's management with a set of robust decision-making tools to use to improve safety. The FAA received 89 comments in response to the ANPRM. The comment period closed on October 21, 2009.

The Airline Safety and Federal Aviation Extension Act of 2010 (Pub. L. 111-216) directed the FAA to issue an NPRM within 90 days of enactment of the Act, and a final rule by July 30, 2012. The Act requires the FAA to develop and implement an SMS for all part 121 air carriers. The NPRM was published on November 5, 2010 (75 FR 68224).

The FAA also chartered the Safety Management System Aviation Rulemaking Committee (ARC) (Order No. 1110.152; February 12, 2009) to solicit recommendations from industry experts on the issue of SMS, including the ANPRM. On March 31, 2010, the ARC submitted its report to the FAA.

As a result of the legislative mandate to issue a final rule implementing Safety Management Systems for part 121 air carriers by July 2012, the FAA has decided not to immediately address SMS for other product/service providers. The SMS ARC will complete its task with submittal of comments on the part 121 SMS rulemaking by the close of comment date, March 7, 2011. Further tasks of this ARC are not anticipated. However, the FAA reiterates its commitment to SMS and may decide to establish other advisory committees or industry panels in the future to provide recommendations that may lead to SMS rulemaking for other product/service providers.

A copy of the Committee report, the NPRM and comments received thus far can be found in the docket for this rulemaking.

Reason for Withdrawal

The FAA is withdrawing Notice No. 09-06 to redirect its resources to complete the SMS for part 121 final rule by the 24 month deadline of July 30, 2012. Although the NPRM is limited to part 121 operators, the general requirements in our proposed part 5 were designed so in the future, they could be adapted and applied to other FAA-regulated entities, such as part 135 operators, part 145 repair stations, and part 21 aircraft design and manufacturing organizations. The FAA is committed to developing SMS where it will improve safety of aviation and aviation related activities.

Conclusion

Withdrawal of Notice No. 09-06 does not preclude the FAA from issuing another proposal on this subject in the future nor does it commit the agency to any future course of action. The public will be provided the opportunity for public comment on any future rulemaking through the notice and comment process. Therefore, the FAA withdraws Notice No. 09-06, published at 74 FR 36414 on July 23, 2009.

Issued in Washington, DC, on March 11, 2011.
Margaret Gilligan,
Associate Administrator for Aviation Safety.

[FR Doc. 2011-6255 Filed 3-16-11; 8:45 am]

BILLING CODE 4910-13-P